FEDERAL ACCOUNTING STANDARDS ADVISORY BOARD

Notice of Appointment of Chair and New FASAB Members

AGENCY: Federal Accounting Standards Advisory Board.

ACTION: Notice.

Pursuant to 31 U.S.C. 3511(d), the Federal Advisory Committee Act (Pub. L. 92-463), as amended, and the FASAB Rules Of Procedure, as amended in October 2010, notice is hereby given that Mr. George Scott has been appointed to serve as the chair of the Federal Accounting Standards Advisory Board (FASAB or “the Board”) beginning July 1, 2019. Mr. Scott's term will conclude on December 31, 2020, with the option for another five-year term.

Notice is also given that Ms. Sallyanne Harper and Dr. Terry Patton have been appointed to serve five-year terms as members of the Board beginning July 1, 2019.

The news releases are available on the FASAB website at http://www.fasab.gov/news-releases/. Copies can be obtained by contacting FASAB at (202) 512-7350.

FOR FURTHER INFORMATION CONTACT: Ms. Wendy M. Payne, Executive Director, 441 G Street NW, Suite 1155, Washington, DC 20548, or call (202) 512-7350.

Authority: Federal Advisory Committee Act, Pub. L. 92-463.

Dated: December 20, 2018.
Wendy M. Payne,
Executive Director.

[FR Doc. 2019-00496 Filed 1-30-19; 8:45 am]

BILLING CODE 1610-02-P